DEPARTMENT OF TRANSPORTATION

Federal Aviation Administration

Notice of Intent To Rule on Request To Release Airport Land at Sedona Airport, Sedona, AZ

AGENCY: Federal Aviation Administration, DOT.

ACTION: Notice of request to release airport land.

SUMMARY: The Federal Aviation Administration (FAA) proposes to rule and invites public comment on the release of approximately 16 acres of airport property at Sedona Airport, Sedona, Arizona from the airport-use restrictions of conveyance deed dated October 31, 1996. The purpose of the release is to authorize leasing of the property at fair market value in order to permit the airport to earn revenue from non-aviation uses of the airport land.

DATES: Comments must be received on or before April 20, 2006.

ADDRESSES: Comments about this Notice may be mailed or delivered to the FAA at the following address: Federal Aviation Administration, Airports Division, Federal Register Comment, 15000 Aviation Blvd., Lawndale, CA 90261. In addition, one copy of the comments submitted to the FAA must be mailed or delivered to Edward “Mac” McCall, General Manager, Sedona Airport Administration, 235 Air Terminal Drive, Unit 1, Sedona, Arizona 86336, telephone (928) 282-4487.

FOR FURTHER INFORMATION CONTACT: Tony Garcia, Airports Compliance Specialist, Federal Aviation Administration, Airports Division, 15000 Aviation Blvd., Lawndale, CA 90261, telephone (310) 725-3634 and fax (310) 725-6849. The request to release airport property may be reviewed in person by appointment at the FAA Airports Division office or at Sedona Airport Administration office.

SUPPLEMENTARY INFORMATION: In accordance with the Wendell H. Ford Aviation Investment and Reform Act for the 21st Century (AIR 21), Public Law 10-181 (Apr. 5, 2000; 114 Stat. 61), this notice must be published in the Federal Register 10 days before the Secretary of Transportation may waive any condition imposed on a Federally obligated airport.

The following is a brief overview of the request: Yavapai County (County) requested a release from the obligations contained in the conveyance deed for approximately 16 acres of airport land at Sedona Airport, Sedona, Arizona, originally acquired from the United States for airport purposes under the provisions of the Federal Airport Act of 1946. The land occupies two parcels that are located on the north side of the airport adjacent to Airport Road and Shrine Road. The property is currently occupied by the Sky Ranch Lodge and the Red Rock Memorial Lodge under the terms of a lease with the County and airport. The County wishes to be released from the obligation requiring that the land be used exclusively for airport purposes. The property is not being used for airport purposes and Section 749 of the Wendell H. Ford Aviation Investment and Reform Act for the 21st Century, Public Law 106-181, has authorized the Secretary of Transportation to release the land from its airport use obligation so it can continue to be leased for non-aviation purposes. The release will permit the airport to continue earning revenue from non-aviation uses based on the fair market value of the property. The lease proceeds will be used for airport purposes and assist in making the airport as self-sustaining as possible.

Issued in Hawthorne, California, on February 24, 2006.
George Allen,
Manager, Safety and Standards Branch, Federal Aviation Administration, Western-Pacific Region.

[FR Doc. 06-2669 Filed 3-20-06; 8:45 am]

BILLING CODE 4910-13-M